FEDERAL COMMUNICATIONS COMMISSION

47 CFR Part 87

[WT Docket No. 01-289; FCC 11-2]

Aviation Communications

AGENCY: Federal Communications Commission.

ACTION: Final rule; suspension of effectiveness.

SUMMARY: In this document, the Federal Communications Commission (FCC) stays indefinitely a rule that rule prohibits the certification, manufacture, importation, sale, or continued use of 121.5 MHz emergency locator transmitters (ELTs). The Commission is staying the effective date of the amendment because information that first came to its attention after the adoption and release of the Third R&O indicates that it would serve the public interest to augment the record on this issue by providing an additional opportunity for public comment.

DATES: Effective March 29, 2011, § 87.195 is stayed until further notice.

FOR FURTHER INFORMATION CONTACT: Jeff Tobias, Mobility Division, Wireless Telecommunications Bureau, at (202) 418-0620.

SUPPLEMENTARY INFORMATION: This is a summary of the Order, released on January 11, 2011. Contemporaneous with this document, the Commission issues a Third Report and Order (Third R&O), (published elsewhere in this publication). The full text of this document is available for public inspection and copying during regular business hours at the FCC Reference Information Center, Portals II, 445 12th Street, SW., Room CY-A257, Washington, DC 20554. This document may also be purchased from the FCC's copy contractor, Best Copy and Printing, Inc., 445 12th Street, SW., Room CY-B402, Washington, DC 20554. The full text may also be downloaded at: http://www.fcc.gov. Alternative formats are available to persons with disabilities by sending an e-mail to fcc504@fcc.gov or by calling the Consumer & Governmental Affairs Bureau at 202-418-0530 (voice), 202-418-0432 (tty).

In this Order, the FCC stayed the effectiveness of 47 CFR 89.195, as amended in the Third R&O, which prohibits the certification, manufacture, importation, sale, or continued use of 121.5 MHz ELTs. The stay will remain in effect indefinitely, and the question of the appropriate regulatory treatment of 121.5 MHz ELTs will be addressed anew after the FCC has received additional public comment on the question. The FCC will separately publish in the Federal Register a document requesting such comment.

List of Subjects in 47 CFR Part 87

Communications equipment, Radio.

For the reasons discussed in the preamble, the FCC amends 47 part 87 as follows:

PART 47—[AMENDED]

1. The authority citation for part 47 continues to read as follows:

Authority: 47 U.S.C. 154, 303 and 307(e), unless otherwise noted.

2. Effective March 29, 2011, § 87.195 is stayed indefinitely.

Federal Communications Commission.
Marlene H. Dortch,
Secretary.

[FR Doc. 2011-4007 Filed 3-28-11; 8:45 am]

BILLING CODE 6712-01-P